DEPARTMENT OF TRANSPORTATION

Federal Aviation Administration

[Docket No. FAA-2003-16227]

Policy and Procedures Concerning the Use of Airport Revenue: Petition of Sarasota-Manatee Airport Authority To Allow Use of Airport Revenue for Direct Subsidy of Air Carrier Operations

AGENCY: Federal Aviation Administration (FAA), Department of Transportation (DOT).

ACTION: Notice of extension of comment period.

SUMMARY: On November 5, 2003, the FAA published a notice in the Federal Register (68 FR 62651) seeking comments from interested parties on the petition of Sarasota-Manatee Airport Authority to allow use of airport revenue for direct subsidy of air carrier operations (Petition). The petitioner Sarasota-Manatee Airport Authority is an airport operator subject to the provisions of the Revenue Use Policy. The petitioner requests that the FAA amend the Revenue Use Policy to permit certain airport operators to use airport revenue for the direct subsidy of commercial airline operations under specific and limited circumstances. The original comment period closed on January 5, 2004. To allow the public more time to comment on the proposal contained in the Petition, the FAA is extending the comment period to March 5, 2004.

DATES: Comments must be received by March 5, 2004.

ADDRESSES: The proposed policy amendment is available for public review in the Dockets Office, U.S. Department of Transportation, Room Plaza 401, 400 Seventh Street, SW., Washington, DC 20590-0001. The documents have been filed under FAA Docket Number FAA-2003-16227. The Dockets Office is open between 9 a.m. and 5 p.m., Monday through Friday, except Federal holidays. The Dockets Office is on the plaza level of the Nassif Building at the Department of Transportation at the above address. Also, you, may review public dockets on the Internet at http://dms.dot.gov. Comments on the proposed policy must be delivered or mailed, in duplicate, to: the Docket Management System, U.S. Department of Transportation, Room Plaza 401, 400 Seventh Street, SW., Washington, DC 20590-0001. You must identify the docket number “FAA Docket No FAA-2003-16227” at the beginning of your comments. Commenters wishing FAA to acknowledge receipt of their comments must include a preaddressed, stamped postcard on which the following statement is made: “Comments to FAA Docket No. FAA-2003-16227.” The postcard will be date stamped and mailed to the commenter. You may also submit comments through the Internet to http://dms.dot.gov.

FOR FURTHER INFORMATION CONTACT: David Cushing, Airports Compliance Division, Office of Airport Safety and Standards, AAS-400, Federal Aviation Administration, 800 Independence Ave., SW., Washington, DC 20591, telephone (202) 267-8348.

Issued in Washington, DC, on February 11, 2004.
David L. Bennett,
Director, Airport Safety and Standards.

[FR Doc. 04-3635 Filed 2-18-04; 8:45 am]

BILLING CODE 4910-13-M